DEPARTMENT OF COMMERCE

National Oceanic and Atmospheric Administration

[RTID 0648-XE667]

Western Pacific Fishery Management Council (Council); Public Meeting

AGENCY: National Marine Fisheries Service (NMFS), National Oceanic and Atmospheric Administration (NOAA), Commerce.

ACTION: Notice; public meeting.

SUMMARY: The Western Pacific Stock Assessment Review (WPSAR) Steering Committee will convene a public meeting to discuss and approve the 5-year calendar for stock assessments, and to address any other concerns related to the WPSAR process.

DATES: The Steering Committee will meet from 1 p.m. to 3 p.m. on Monday, February 24, 2025.

ADDRESSES: The meeting will be open to the public and will be held as a hybrid meeting for members and the public, with a remote participation option available via Webex. In-person participation will be hosted at the Council office, 1164 Bishop Street, Suite 1400, Honolulu, HI 96813. Specific information on joining the meeting, connecting to the web conference and providing oral public comments will be posted on the Council website at www.wpcouncil.org. For assistance with the web conference connection, contact the Council office at (808) 522-8220.

FOR FURTHER INFORMATION CONTACT: Mark Fitchett, (808) 522-8141, or mark.d.fitchett@noaa.gov.

SUPPLEMENTARY INFORMATION: The WPSAR Steering Committee consists of the Executive Director of the Western Pacific Fishery Management Council, the Science Director of the NMFS Pacific Islands Fisheries Science Center, and the Regional Administrator of the NMFS Pacific Islands Regional Office. You may read more about WPSAR at https://www.pifsc.noaa.gov/peer_reviews/wpsar/index.php.

The public will have an opportunity to comment during the meeting. The agenda order may change. The meeting will run as late as necessary to complete scheduled business.

Meeting Agenda

1. Review of the WPSAR Schedule

2. Terms of Reference for Update Stock Assessment of Commonwealth of the Northern Mariana Islands (CNMI) Bottomfish Management Unit Species (BMUS)

3. Logistics for April 2025 CNMI BMUS WPSAR

A. Timeline for documents, reviewer selection, etc.

B. Personnel (PIRO, PIFSC, Council staff, WPSAR reviewers)

C. Venue options

4. Main Hawaiian Islands Kona Crab Stock Assessment Discussion

5. Other Business

Special Accommodations

The meeting is accessible to people with disabilities. Requests for sign language interpretation or other auxiliary aids should be directed to Kitty M. Simonds, (808) 522-8220 (voice) or (808) 522-8226 (fax), at least 5 days prior to the meeting date.

Authority: 16 U.S.C. 1801 et seq.

Dated: February 7, 2025.
Rey Israel Marquez,
Acting Deputy Director, Office of Sustainable Fisheries, National Marine Fisheries Service.

[FR Doc. 2025-02545 Filed 2-11-25; 8:45 am]

BILLING CODE 3510-22-P